DEPARTMENT OF THE INTERIOR

Bureau of Indian Affairs

Final Environmental Impact Statement for the Scotts Valley Band of Pomo Indians' Proposed 29.87 Acre Fee-to-Trust Transfer and Gaming Development Project, Contra Costa County, CA

AGENCY: Bureau of Indian Affairs, Interior.

ACTION: Notice.

SUMMARY: This notice advises the public that the Bureau of Indian Affairs (BIA), in cooperation with the Scotts Valley Band of Pomo Indians (Tribe), National Indian Gaming Commission (NIGC), Contra Costa County, and California Department of Transportation, intends to file a final Environmental Impact Statement (FEIS) with the U.S. Environmental Protection Agency for the proposed approval of a 29.87± acre fee-to-trust transfer and gaming development project in Contra Costa County, California, and that the FEIS is now available to the public. In addition to the trust acquisition for gaming purposes, the proposed action includes approval by the NIGC of a gaming management contract. The FEIS is part of the administrative process that evaluates tribal applications that seek to have the United States take land into trust pursuant to 25 U.S.C. 465 and 25 CFR part 151.

DATES: The Record of Decision on the proposed action will be issued on or after April 29, 2008. Any comments on the FEIS must be received by April 28, 2008.

ADDRESSES: You may mail or handcarry written comments to Amy Dutschke, Acting Regional Director, Bureau of Indian Affairs, Pacific Region, 2800 Cottage Way, Room W-2820, Sacramento, California 95825. Please include your name, return address and the caption, “FEIS Comments, Scotts Valley Fee-to-Trust and Gaming Development Project,” on the first page of your written comments.

The FEIS will be available for review at the Richmond Public Library, Main Library, 325 Civic Center Plaza, Richmond, California 94804, and at the Contra Costa County Library, San Pablo Branch, 2300 El Portal Drive, Suite D, San Pablo, California 94806. General information for the Richmond Public Library can be obtained by calling (510) 620-6555 and for the Contra Costa County Library by calling (510) 374-3998.

If you would like to obtain a copy of the FEIS, please provide your name and address in writing or by voicemail to John Rydzik, Chief of the Division of Environmental, Cultural Resource Management and Safety, at the BIA address above or at the telephone number provided below.

FOR FURTHER INFORMATION CONTACT: John Rydzik, (916) 978-6042.

SUPPLEMENTARY INFORMATION: The Tribe has asked the BIA to take 29.87± acres of land into trust on behalf of the Tribe, on which the Tribe proposes to develop a casino, parking structure and other facilities. The project site is located in unincorporated Contra Costa County, contiguous with the City of Richmond. Regional access to the project site would be from Richmond Parkway via Interstate 80.

Project alternatives considered in the FEIS include: (1) The preferred casino alternative; (2) a reduced casino; (3) a reduced casino and commercial development; (4) a retail/office development; and (5) no action. The preferred casino alternative includes a 225,000-square-foot casino complex and a five-level parking structure. The alternatives are intended to assist the review of the issues presented, but the Preferred Alternative does not necessarily reflect what the final decision will be, because a complete evaluation of the criteria listed in 25 CFR part 151 may lead to a final decision that differs from the Preferred Alternative and the other alternatives.

Environmental issues addressed in the FEIS include land resources, water resources, air quality, biological resources, cultural resources, socioeconomic conditions, environmental justice, transportation, land use, agriculture, public services, noise, hazardous materials, visual resources, cumulative effects, indirect effects and mitigation.

The BIA has afforded other government agencies and the public ample opportunity to participate in the preparation of this EIS. The BIA published a notice of intent to prepare an EIS for the proposed action in the Federal Register on July 20, 2004 (69 FR 43431). BIA also held a public scoping meeting on August 4, 2004, in the City of Richmond. A Notice of Availability for the Draft EIS was published in the Federal Register on February 28, 2006 (71 FR 10055). The document was available for public comment from February 28 to April 28, 2006, and a public hearing was held on March 15, 2006, in the City of Richmond.

Public Comment Availability

Comments, including names and addresses of respondents, will be available for public review at the address shown in the ADDRESSES section, during regular business hours, 8 a.m. to 4:30 p.m., Monday through Friday, except holidays. Before including your address, phone number, e-mail address, or other personal identifying information in your comment, you should be aware that your entire comment—including your personal identifying information—may be made publicly available at any time. While you can ask us in your comment to withhold your personal identifying information from public review, we cannot guarantee that we will be able to do so.

Authority: This notice is published in accordance with section 1503.1 of the Council of Environmental Quality regulations (40 CFR parts 1500 through 1508) implementing the procedural requirements of the National Environmental Policy Act of 1969, as amended (42 U.S.C. 4371 et seq.), the Department of the Interior Manual (516 DM 1-6), and under the authority delegated to the Assistant Secretary—Indian Affairs by 209 DM 8.

Dated: March 5, 2008.
Carl J. Artman,
Assistant Secretary—Indian Affairs.

[FR Doc. E8-6346 Filed 3-27-08; 8:45 am]

BILLING CODE 4310-W7-P